DEPARTMENT OF ENERGY

Federal Energy Regulatory Commission

[Docket No. RP02-496-000]

Pine Needle LNG Company, LLC; Notice of Request for Waiver

August 21, 2002.

Take notice that on August 1, 2002, Pine Needle LNG Company, LLC (Pine Needle) tendered for filing a request for waiver to comply with Order No. 587-O and certain North American Energy Standards Board (NAESB) Standards. Pine Needle asserts that it sought and received an exemption from the imbalance netting and trading requirements of Order No. 587-L, which the Commission granted on October 27, 2000. Pine Needle states that subsequently, the Commission issued Order No. 587-O which requires pipelines to comply with NAESB Version 1.5, including standards relating to imbalance netting and trading, i.e., Standards 2.4.9-2.4.16. Pine Needle alleges that since it has been granted an exemption from providing imbalance netting and trading to shippers on its system and believes it unnecessary to comply with standards related to this service, Pine Needle therefore requests wavier of the Version 1.5 Standards related to imbalance netting and trading. Pine Needle also indicates that it does not offer any transportation services. Pine Needle contends that because the title transfer tracking standards required by Order No. 587-O relate to transportation services, these standards are not applicable to a system only offering storage services, therefore, Pine Needle requests a waiver of these standards. The issues raised by Pine Needle in its August 1, 2002 filing regarding waiver of Order No. 587-O will be addressed in the above-docketed proceeding.

Any person desiring to be heard or to protest said filing should file a motion to intervene or a protest with the Federal Energy Regulatory Commission, 888 First Street, NE., Washington, DC 20426, in accordance with Sections 385.214 or 385.211 of the Commission's Rules and Regulations. All such motions or protests must be filed on or before August 29, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-21863 Filed 8-27-02; 8:45 am]

BILLING CODE 6717-01-P